DEPARTMENT OF AGRICULTURE

Forest Service

Information Collection; Qualified Products List for Wildland Fire Chemicals

AGENCY: Forest Service, Agriculture (USDA).

ACTION: Notice; request for comment.

SUMMARY: In accordance with the Paperwork Reduction Act of 1995, the Forest Service is requesting comment on reapproval or reinstatement without revision of an approved Information Collection Request (ICR), 0596-0182, Qualified Products List for Wildland Fire Chemicals.

DATES: Comments on reapproval or reinstatement of the ICR must be received in writing by February 18, 2025.

ADDRESSES: Comments may be sent to Michael McFarlane, Fire Chemicals Branch Chief, USDA Forest Service, National Interagency Fire Center, 3833 South Development Avenue, Mail Stop 1100, Boise, ID 83705, or by email at michael.mcfarlane@usda.gov. Comments submitted in response to this notice will be available to the public through the relevant website and upon request. Therefore, do not include confidential information, such as sensitive personal or proprietary information. Email addresses associated with comments will be included as part of the comment that is made publicly available online.

The public may inspect the supporting documents for the ICR and comments received at the National Interagency Fire Center, located in the Jack Wilson Building, 3833 South Development Avenue, Boise, Idaho, on business days between 8:30 a.m. and 4 p.m. Visitors are encouraged to call ahead at (208) 387-5512 to facilitate entry into the building. The public may request an electronic copy of the supporting documents via email. Requests should be emailed to michael.mcfarlane@usda.gov.

FOR FURTHER INFORMATION CONTACT: Bryon Lake, National Technology and Development Program, (406) 829-6814 or by email at bryon.lake@usda.gov, or Michael McFarlane, National Interagency Fire Center, (208) 860-7334 or by email at michael.mcfarlane@usda.gov. Individuals who use telecommunication devices for the deaf and hard of hearing may call 711 to reach the Telecommunications Relay Service, 24 hours a day, every day of the year, including holidays.

SUPPLEMENTARY INFORMATION:

Title: Qualified Products List for Wildland Fire Chemicals.

OMB Number: 0596-0182.

Expiration Date of Approval: January 31, 2025.

Type of Request: Reapproval or reinstatement without revision of an approved ICR.

Abstract: The Forest Service and cooperating wildland firefighting agencies need adequate types and quantities of qualified fire chemical products to accomplish fire management activities as safely and effectively as possible. To accomplish this objective, the Agency evaluates and prequalifies commercial wildland firefighting chemical products. The Agency is required to submit the formulations to the U.S. Fish and Wildlife Service and National Marine Fisheries Service during the evaluation process. All commercial wildland firefighting chemical products must meet the qualification requirements identified in the specifications maintained by the Wildland Fire Chemical Systems staff for the National Technology and Development Program. After a determination has been made that a chemical product meets the qualification requirements, the chemical product is added to the qualified products list for the appropriate product type. All federal procurements of wildland fire chemical products are made from these qualified product lists.

To initiate an evaluation, chemical product manufacturers or authorized suppliers enter into an agreement with the Forest Service and pay all costs associated with the submission and evaluation of the chemical product. Once the agreement is in place and funds are deposited to cover the associated costs, the manufacturer or supplier submits the following information to Wildland Fire Chemical Systems staff:

1. A list of the specific ingredients and quantity used to prepare the chemical product;

2. Identification of a specific company as the source of supply for each ingredient;

3. Copies of the safety data sheet for the chemical product and for each ingredient used to prepare the chemical product from the company that supplies that chemical; and

4. Specific mixing requirements and performance information.

Review of the submitted information assures that the chemical product does not contain ingredients meeting the criteria for chemicals of concern. Chemicals of concern are defined as chemicals appearing on one or more of the following lists:

• Agency list of unacceptable ingredients.

• National Toxicology Program Annual Report on Carcinogens.

• International Agency for Research on Cancer Monographs for Potential Carcinogens.

• Comprehensive Environmental Response, Compensation, and Liability Act List of Extremely Hazardous Substances and Their Threshold Planning Quantities.

• Resources Conservation and Recovery Act, Acutely Hazardous and Toxic Wastes.

• Emergency Planning and Community Right to Know Toxic Release Inventory.

A risk assessment is required and is performed at the manufacturer's expense by a third party selected by the Forest Service. The risk assessment assesses the chemical product and levels of ingredients found in typical applications of the chemical product relative to human and environmental impact.

Each chemical product submitted is tested to determine its mammalian and aquatic toxicity. Each chemical product must meet specific levels of performance to minimize potential risk during firefighting operations and cannot exceed established thresholds. Additional tests are performed to determine the effectiveness of the chemical product to reduce a fire's rate of spread, flame length, and intensity by application of the chemical product directly on or near the fire. Several characteristics of the chemical product are measured over its operational range to ensure that the chemical product meets the needs of firefighters in the field.

The information collection request for each chemical product is necessary due to the length of time (16 to 18 months) needed to test the chemical product and the need to ensure that it does not pose a hazard for laboratory personnel during the evaluation process or for field personnel who mix and load the chemical product prior to its purchase and use. The information collection request and the chemical product evaluation must be conducted on an ongoing basis to ensure the Forest Service can solicit and award contracts in a timely manner to provide firefighters with safe and effective wildland fire chemical products.

Estimated Annual Burden: 4.5 hours per response.

Type of Respondents: Manufacturers and suppliers of fire chemical products for wildland fire management.

Estimated Annual Number of Respondents: 5.

Estimated Annual Number of Responses per Respondent: 3.

Estimated Total Annual Burden on Respondents: 69 hours.

Comment is requested on:

1. Whether this collection of information is necessary for the stated purposes and the proper performance of the functions of the Forest Service, including whether the information will have practical or scientific utility;

2. The accuracy of the Agency's estimate of the burden of the collection of information, including the validity of the methodology and assumptions used;

3. Ways to enhance the quality, utility, and clarity of the information to be collected; and

4. Ways to minimize the burden of the collection of information on respondents, including the use of automated, electronic, mechanical, or other technological collection techniques or other forms of information technology.

All comments received in response to this notice, including names and addresses when provided, will be a matter of public record. Comments will be summarized and included in the package submitted to the Office of Management and Budget for reapproval or reinstatement of the ICR.

JoLynn Anderson,
Branch Lead, Directives, Clearances, and Information Collection Requests.

[FR Doc. 2024-30207 Filed 12-18-24; 8:45 am]

BILLING CODE 3411-15-P